DEPARTMENT OF COMMERCE

International Trade Administration

[A-570-890]

Wooden Bedroom Furniture From The People's Republic of China: Notice of Partial Rescission of New Shipper Review

AGENCY: Import Administration, International Trade Administration, Department of Commerce.

SUMMARY: On April 3, 2006, Senyuan Furniture Group (“Senyuan”) withdrew its request for a new shipper review of the antidumping duty order on wooden bedroom furniture (“WBF”) from the People's Republic of China (“PRC”) covering the period June 24, 2004, through December 31, 2005. Accordingly, because no other party requested a review for Senyuan, we are rescinding, pursuant to 19 CFR 351.214(f)(1), this new shipper review.

SUPPLEMENTARY INFORMATION:

Background

On January 31, 2006, the Department of Commerce (“the Department”) received a timely request for a new shipper review of the antidumping order on WBF from the PRC from Senyuan. On March 7, 2006, the Department initiated a new shipper review of shipments of WBF from the PRC produced and exported by Senyuan during the period of review. See Wooden Bedroom Furniture from the People's Republic of China: Initiation of New Shipper Reviews, 71 FR 11404 (March 7, 2006). No other party requested a review of Senyuan for this time period. On April 3, 2006, Senyuan withdrew its request for a new shipper review.

Rescission of New Shipper Review

Pursuant to 19 CFR 351.214(f)(1), the Department may rescind a new shipper review, in whole or in part, if the party that requested the review withdraws its request no later than 60 days after the date of publication of the notice of initiation of the requested review. Senyuan withdrew its request for review within the 60-day time limit and no other party requested a review with respect to Senyuan. Accordingly, we are rescinding this new shipper review.

Notification

We will issue assessment instructions within 15 days of the date of the publication of this notice and, in accordance with 19 CFR 351.212(c), we will instruct U.S. Customs and Border Protection to assess antidumping duties at the cash deposit rate in effect at the time of entry for all shipments of WBF from the PRC produced and exported by Senyuan and entered, or withdrawn from warehouse, for consumption during the period June 24, 2004, through December 31, 2005.

This notice serves as a final reminder to importers of their responsibility under 19 CFR 351.402(f) to file a certificate regarding the reimbursement of antidumping duties prior to liquidation of the relevant entries during this review period. Failure to comply with this

requirement could result in the Secretary's assumption that reimbursement of antidumping duties occurred and subsequent assessment of double antidumping duties.

This notice is published in accordance with section 777(i)(1) of the Tariff Act of 1930, as amended, and 19 CFR 351.213(d)(4) of the Department's regulations.

Dated: August 25, 2006.
Stephen J. Claeys,
Deputy Assistant Secretary for Import Administration.

[FR Doc. E6-14532 Filed 8-31-06; 8:45 am]

BILLING CODE 3510-DS-S